DEPARTMENT OF HEALTH AND HUMAN SERVICES

National Institutes of Health

Proposed Collection; Comment Request; Preventing Motor Vehicle Crashes Among Novice Teen Drivers

Summary: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection

Title: Preventing Motor Vehicle Crashes Among Novice Teen Drivers.

Type of Information Collection Request: NEW. Use of Information: Motor vehicle crash risk is particularly elevated among novice young drivers during the first 6 months and 1000 miles of independent driving. Previously, researchers in the Prevention Research Branch of the NICHD have demonstrated the efficacy of educational/behavioral interventions for increasing parental management of teen driving and reducing exposure to high-risk driving conditions during the first 12 months after licensure. The current research seeks to test the effectiveness of providing education to facilitate parental management of teen driving when delivered at motor vehicle administration offices at the time the teen obtains a permit, at the time of license, or at both permit and license. Frequency of Response: Three interviews; Affected Public: Individuals or households; Type of Respondents: Teens and Parents/guardians. The annual reporting burden is as follows: Estimated Number of Respondents: 2000 teens and 2000 parents; Estimated Number of Responses per Respondents: 3; Average Burden Hours Per Response: 0.35; and Estimated Total Annual Burden Hours Requested: 4000. There are no Capital Costs, Operating Costs and/or Maintenance Costs to report.

Type of respondents | Estimated number of respondents | Estimated number of responses per respondent | Average burden hours per response | Estimated total annual burden hours requested
Parents/guardians | 2000 | 3 | .35 | 2100
Teens | 2000 | 3 | .35 | 2100
Total | 4000 | 3 | .35 | 4200

Request for Comments

Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

For Further Information Contact: To request more information on the proposed project or to obtain a copy of the data collection plans and instruments, contact: Bruce Simons-Morton, Ed.D., 6100 Executive Blvd, Suite 7B13M, Rockville, MD 20852. (Phone: 301-496-5674). (E-mail: Mortonb@mail.nih.gov))

Comments Due Date

Comments regarding this information collection are best assured of having their full effect if received within 60-days of the date of this publication.

Dated: June 5, 2006.
Paul Johnson,
NICHD Project Clearance Liaison, National Institutes of Health.

[FR Doc. E6-9137 Filed 6-12-06; 8:45 am]

BILLING CODE 4140-01-P